DEPARTMENT OF THE INTERIOR

National Park Service

[NPS-WASO-NAGPRA-12433; PCU00RP14.R50000-PPWOCRADN0]

Notice of Intent To Repatriate Cultural Items: University of Denver Museum of Anthropology, Denver, CO

AGENCY: National Park Service, Interior.

ACTION: Notice.

SUMMARY: The University of Denver Museum of Anthropology, in consultation with the appropriate Indian tribes, has determined that the cultural items meet the definition of unassociated funerary objects and repatriation to the Indian tribes stated below may occur if no additional claimants come forward. Representatives of any Indian tribe that believes itself to be culturally affiliated with the cultural items may contact the University of Denver Museum of Anthropology.

DATES: Representatives of any Indian tribe that believes it has a cultural affiliation with the cultural items should contact the University of Denver Museum of Anthropology at the address below by April 29, 2013.

ADDRESSES: Anne Amati, University of Denver Museum of Anthropology, 2000 E. Asbury Avenue, Denver, Colorado, 80208, telephone (303) 871-2687.

SUPPLEMENTARY INFORMATION: Notice is here given in accordance with the Native American Graves Protection and Repatriation Act (NAGPRA), 25 U.S.C. 3005, of the intent to repatriate cultural items in the possession of the University of Denver Museum of Anthropology, Denver, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1968, the University of Denver Museum of Anthropology acquired the collection of Mr. Fallis F. Rees, an amateur archeologist, who researched ancient civilizations. He housed his artifact collection in his Ko-Kas-Ki Museum in Pinedale, CO, before transferring it to the University of Denver Museum of Anthropology. The following cultural items came to the University of Denver Museum of Anthropology as part of the Rees Collection.

At an unknown date, two stone figurine fragments (DU 3915 A-B) were removed from unknown sites near Gila Crossing Ruin in Maricopa or Pinal County, AZ, by an unknown individual. At an unknown date, one stone figurine fragment (DU 3915 C), depicting a female head and partial torso, was removed from an unknown site in the Gila River area, AZ, by an unknown individual. Fallis Rees obtained this object from Frank Midvale, a southwestern archeologist who lived and worked in southern and central Arizona. All three figurines (DU 3915 A-C) resemble Santa Cruz Phase figurines from the Snaketown site and are made from vesicular basalt. The archeological evidence places the Snaketown site within the archeologically-defined Hohokam tradition. Museum records indicate the figurine fragments were removed from cremation burials.

At an unknown date, one stone cylinder with flat base (DU 3973) was removed from an unknown site near Phoenix Ruins in Maricopa County, AZ, by an unknown individual. The cylinder features a shallow depression on one end with two rattlesnakes carved head to tail on the rim. Fallis Rees obtained this object from Frank Midvale, a southwestern archeologist who lived and worked in southern and central Arizona. DU 3973 is identified as belonging to the Santa Cruz or Sacaton Phase of the Hohokam archeological tradition. Museum records indicate the cylinder was removed from a cremation burial.

At an unknown date, two stone palettes (DU 3984 and 3987) were removed from unknown sites in Arizona by an unknown individual. DU 3984 features irregular incised triangles on the rim. DU 3987 is greenish-grey in color and features an incised groove border, beveled edges and a smoothed back. At an unknown date, one stone palette (DU 3986) was removed from an unknown site near Phoenix in Maricopa County, AZ, in the Salt River Valley, by an unknown individual. DU 3986 is made from soapstone and features a shallow incised border on a smoothed surface. At an unknown date, one stone palette (DU3989) was removed from an unknown site in New River, Maricopa County, AZ, by an unknown individual. DU 3989 features a water bird design with double incised lines inside the border and notched edges. Areas of loss have been reconstructed at some point prior to 1968. Fallis Rees obtained this object from Frank Midvale, a southwestern archeologist who lived and worked in southern and central Arizona. DU 3984 is identified as belonging to the Sacaton Phase of the Hohokam Archeological tradition. Museum records identify DU 3986, 3987, and 3989 as part of the Hohokam Archeological tradition. Consultation and museum records indicate that palettes are known to be associated with burials.

At an unknown date, one stone fragment (DU 3991), identified as part of a fetish, was removed from an unknown site near Gila Butte in Pinal County, AZ, by an unknown individual. The fragment features painted designs in black and white, partial double perforations, and beveled edges. At an unknown date, one stone fragment (DU 3992) was removed from an unknown site near Cashion in Maricopa County, AZ, by an unknown individual. The fragment features one edge with a continuous curved arc and the other edge with uneven curves including one partial perforation near one end. Both stone fragments (DU 3991 and 3992) show evidence of being burned and are believed to have been removed from cremation burials. Museum records identify the stone fragments as part of the Hohokam Archeological tradition.

The Gila River Indian Community of the Gila River Indian Reservation, Arizona, and the Salt River Pima-Maricopa Indian Community of the Salt River Reservation, Arizona, have submitted repatriation claims for the cultural items described in this notice, on behalf of themselves and the Ak Chin Indian Community of the Maricopa (Ak Chin) Indian Reservation, Arizona and the Tohono O'odham Nation of Arizona (hereinafter referred to as “The Four Southern Tribes of Arizona”). The Gila River Indian Community of the Gila River Indian Reservation, Arizona, has requested the repatriation of DU 3915 A-C, 3984, 3987 and 3991. The Salt River Pima-Maricopa Indian Community of the Salt River Reservation, Arizona, has requested the repatriation of DU 3973, 3986, 3989, and 3992.

The Gila River Indian Community of the Gila River Reservation, Arizona, and the Salt River Pima-Maricopa Indian Community of the Salt River Reservation, Arizona, provided archeological, biological, geographical, kinship, linguistic, historical and oral tradition evidence establishing a close relationship of shared group identity that can be traced both historically and prehistorically between the Four Southern Tribes of Arizona and the Hohokam tradition. Oral tradition evidence also indicates a close relationship of shared group identity that can be traced both historically and prehistorically between the Hopi Tribe of Arizona and the Zuni Tribe of the Zuni Reservation, New Mexico, and the Hohokam tradition.

Determinations Made by the University of Denver Museum of Anthropology

Officials of the University of Denver Museum of Anthropology have determined that:

• Pursuant to 25 U.S.C. 3001(3)(B), the 10 cultural items described above are reasonably believed to have been placed with or near individual human remains at the time of death or later as part of the death rite or ceremony and are believed, by a preponderance of the evidence, to have been removed from a specific burial site of a Native American.

• Pursuant to 25 U.S.C. 3001(2), there is a relationship of shared group identity that can be reasonably traced between the unassociated funerary objects and the Ak Chin Indian Community of the Maricopa (Ak Chin) Indian Reservation, Arizona; Gila River Indian Community of the Gila River Reservation, Arizona; Hopi Tribe of Arizona; Salt River Pima-Maricopa Indian Community of the Salt River Reservation, Arizona; Tohono O'odham Nation of Arizona; and the Zuni Tribe of the Zuni Reservation, New Mexico.

Additional Requestors and Disposition

Representatives of any other Indian tribe that believes itself to be culturally affiliated with the unassociated funerary objects should contact Anne Amati, University of Denver Museum of Anthropology, 2000 E Asbury Ave, Denver, Colorado, 80208, telephone (303) 871-2687, before April 29, 2013. Repatriation of the unassociated funerary objects to the Gila River Indian Community of the Gila River Reservation, Arizona, and the Salt River Pima-Maricopa Indian Community of the Salt River Reservation, Arizona, on behalf of the Four Southern Tribes of Arizona may proceed after that date if no additional claimants come forward.

The University of Denver Museum of Anthropology is responsible for notifying the Ak Chin Indian Community of the Maricopa (Ak Chin) Indian Reservation, Arizona; Gila River Indian Community of the Gila River Reservation, Arizona; Hopi Tribe of Arizona; Salt River Pima-Maricopa Indian Community of the Salt River Reservation, Arizona; Tohono O'odham Nation of Arizona; and the Zuni Tribe of the Zuni Reservation, New Mexico that this notice has been published.

Dated: February 26, 2013.
Sherry Hutt,
Manager, National NAGPRA Program.

[FR Doc. 2013-07353 Filed 3-28-13; 8:45 am]

BILLING CODE 4312-50-P